DEPARTMENT OF HEALTH AND HUMAN SERVICES

Administration for Children and Families

President's Committee on Mental Retardation; Name Change to President's Committee for People With Intellectual Disabilities; Membership Addition

AGENCY: President's Committee on Mental Retardation (PCMR), HHS.

ACTION: Notice of Amendments to Executive Order 12994, renaming the President's Committee on Mental Retardation, the addition of four members to the Committee and continuation of the Committee until September 30, 2005.

DATES: Friday, July 25, 2003.

In conjunction with the 13th Anniversary of the Americans with Disabilities Act, on Friday, July 25, 2003, President Bush amended Executive Order 12994 of March 21, 1996, to change the name of the President's Committee on Mental Retardation to the “President's Committee for People with Intellectual Disabilities.” The name change was recommended to the President by the Committee members after a majority vote during the Committee's Third Quarterly Meeting held on May 12, 2003. The name change reflects efforts to promote equality for people with intellectual disabilities.

The President also amended the executive order by adding four additional members to the Committee: The Secretary of Commerce; The Secretary of Transportation; The Secretary of the Interior and the Secretary of Homeland Security.

The Amendment continues the Committee until September 30, 2005.

FOR FURTHER INFORMATION CONTACT: Sally Atwater, Executive Director, President's Committee on Mental Retardation, Aerospace Center Building, Suite 701, 370 L'Enfant Promenade, SW., Washington, DC 20447, Telephone—(202) 619-0634, Fax—(202) 205-9519, e-mail—satwater@acf.hhs.gov.

SUPPLEMENTARY INFORMATION: The President's Committee for People with Intellectual Disabilities acts in an advisory capacity to the President and the Secretary of the U.S. Department of Health and Human Services on a broad range of topics relating to programs, services, and supports for persons with mental retardation. The Committee, by Executive Order, is responsible for evaluating the adequacy of current practices in programs, services and supports for persons with mental retardation, and for reviewing legislative proposals that impact on the quality of life that is experienced by citizens with mental retardation and their families.

Dated: August 6, 2003.
Sally Atwater,
Executive Director, President's Committee for People With Intellectual Disabilities.

[FR Doc. 03-22367 Filed 9-2-03; 8:45 am]

BILLING CODE 4184-01-M